FEDERAL COMMUNICATIONS COMMISSION

47 CFR Part 73

[DA 04-611; MM Docket No. 01-33; RM-10060]

Radio Broadcasting Services; Caro and Cass City, MI

AGENCY: Federal Communications Commission.

ACTION: Final rule, petition for reconsideration.

SUMMARY: This document denies a petition for reconsideration filed by Edward Czelada seeking reconsideration of the Report and Order in this proceeding. See 66 FR 29237 May 20, 2001. The petition for reconsideration was opposed by Edwards Communications, LC, licensee of Station WIDL(FM) Caro, Michigan.

FOR FURTHER INFORMATION CONTACT: Victoria M. McCauley, Media Bureau, (202) 418-2180.

SUPPLEMENTARY INFORMATION: This is a synopsis of the Commission's Memorandum Opinion and Order in MM Docket No. 01-33, adopted March 10, 2004, and released March 12, 2004. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202-863-2893, facsimile 202-863-2898, or via e-mail qualexint@aol.com. The document is not subject to the Congressional Review Act.

Federal Communications Commission.
John A. Karousos,
Assistant Chief, Audio Division, Media Bureau.

[FR Doc. 04-7097 Filed 3-29-04; 8:45 am]

BILLING CODE 6712-01-P